DEPARTMENT OF THE INTERIOR

Bureau of Land Management

[LLWY-957400-13-L16100000-BJ0000]

Filing of Plats of Survey, Wyoming

AGENCY: Bureau of Land Management, Interior.

ACTION: Notice.

SUMMARY: The Bureau of Land Management (BLM) is scheduled to file the plats of survey of the land described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: The following surveys were executed at the request of the Bureau of Land Management:

The plat and field notes representing the dependent resurvey of a portion of the subdivisional lines and the subdivision of section 11, the survey of a portion of the subdivision of section 11, and the metes and bounds surveys of Lot 3, section 10, and Lot 15, section 11, Township 51 North, Range 97 West, Sixth Principal Meridian, Wyoming, Group No. 875, was accepted August 7, 2013.

The plat representing the entire record of the dependent resurvey of a portion of the subdivision of section 15, and the metes and bounds survey of Lot 2, section 15, Township 12 North, Range 90 West, Sixth Principal Meridian, Wyoming, Group No. 883, was accepted August 7, 2013.

Copies of the preceding described plats and field notes are available to the public at a cost of $1.10 per page.

Dated: August 7, 2013.
John P. Lee,
Chief Cadastral Surveyor, Division of Support Services.

[FR Doc. 2013-19646 Filed 8-12-13; 8:45 am]

BILLING CODE 4310-22-P